DEPARTMENT OF TRANSPORTATION

Federal Motor Carrier Safety Administration

[Docket No. FMCSA-2015-0351]

Qualification of Drivers; Exemption Applications; Vision

AGENCY: Federal Motor Carrier Safety Administration (FMCSA), DOT.

ACTION: Notice of applications for exemptions; request for comments.

SUMMARY: FMCSA announces receipt of applications from 22 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before April 27, 2016. All comments will be investigated by FMCSA. The exemptions will be issued the day after the comment period closes.

ADDRESSES: You may submit comments bearing the Federal Docket Management System (FDMS) Docket No. FMCSA-2015-0351 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 22 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Lee R. Boykin

Mr. Boykin, 54, has open angle glaucoma in his right eye since 2008 causing a visual field defect. The visual acuity in his right eye is 20/30, and in his left eye, 20/20. Following an examination in 2015, his ophthalmologist stated, “In my professional medical opinion, he has sufficient vision to perform the driving tasks required to operate a commercial vehicle at this time.” Mr. Boykin reported that he has driven straight trucks for 1 years, accumulating 9,000 miles and tractor-trailer combinations for 28 years, accumulating 3.40 million miles. He holds a Class A CDL from Texas. His driving record for the last 3 years shows no crashes and one conviction for a moving violation in a CMV; speeding.

Donald Carrillo

Mr. Carrillo, 53, has had a prosthetic right eye since 1986 due to a traumatic incident. The visual acuity in his right eye is no light perception, and in his left eye, 20/15. Following an examination in 2015, his ophthalmologist stated, “In our opinion, vision is sufficient to operate a commercial vehicle.” Mr. Carrillo reported that he has driven straight trucks for 24 years, accumulating 22,800 miles and buses for 23.5 years, accumulating 21,150 miles. He holds an operator's license from New Mexico. His driving record for the last 3 years shows no crashes and no convictions for moving violations in a CMV.

Carl F. Cryer

Mr. Cryer, 29, has had optic nerve damage in his right eye due to a traumatic incident in childhood. The visual acuity in his right eye is 20/200, and in his left eye, 20/20. Following an examination in 2015, his optometrist stated, “However, I DO [sic] feel that he has sufficient vision to perform the driving tasks required to operate a commercial.” Mr. Cryer reported that he has driven straight trucks for 8 years, accumulating 60,000 miles. He holds a Class DV operator's license from Alabama. His driving record for the last 3 years shows no crashes and no convictions for moving violations in a CMV.

Steven W. Day

Mr. Day, 65, has had amblyopia in his right eye since childhood. The visual acuity in his right eye is 20/150, and in his left eye, 20/20. Following an examination in 2015, his ophthalmologist stated, “In my medical opinion, Mr. Day has sufficient vision to perform the driving tasks required to operate a commercial vehicle.” Mr. Day reported that he has driven straight trucks for 20 years, accumulating 60,000 miles and tractor-trailer combinations for 30 years, accumulating 60,000 miles. He holds a Class A CDL from Missouri. His driving record for the last 3 years shows no crashes and no convictions for moving violations in a CMV.

Roger M. Dunaway

Mr. Dunaway, 40, has had aphakia in his right eye since childhood. The visual acuity in his right eye is counting fingers, and in his left eye, 20/20. Following an examination in 2015, his optometrist stated, “The applicant was found to be visually able to safely operate a commercial motor vehicle.” Mr. Dunaway reported that he has driven straight trucks for 15 years, accumulating 487,500 miles and tractor-trailer combinations for 9 years, accumulating 162,000 miles. He holds a Class DMA CDL from Kentucky. His driving record for the last 3 years shows one crash, which he was not cited for, and no convictions for moving violations in a CMV.

Horace N. Goss

Mr. Goss, 58, has had amblyopia in his right eye since childhood. The visual acuity in his right eye is 20/20, and in his left eye, 20/25. Following an examination in 2015, his optometrist stated, “I certify in my medical opinion that Horace Goss has sufficient vision to perform driving task to be able to drive a commercial vehicle.” Mr. Horace reported that he has driven straight trucks for 10 years, accumulating 600,000 miles, and tractor-trailer combinations for 34 years, accumulating 2.72 million miles. He holds a Class A CDL from Texas. His driving record for the last 3 years shows no crashes and no convictions for moving violations in a CMV.

Matt A. Guilmain

Mr. Guilmain, 44, has had amblyopia in his left eye since childhood. The visual acuity in his right eye is 20/20, and in his left eye, light perception. Following an examination in 2015, his optometrist stated, “Patient's vision is sufficient to drive a commercial vehicle.” Mr. Guilmain reported that he has driven straight trucks for 5 years, accumulating 192,000 miles. He holds a Class B CDL from New Hampshire. His driving record for the last 3 years shows one crash in a CMV, for which he contributed by making an improper lane change, and no convictions for moving violations in a CMV.

Hugo N. Gutierrez

Mr. Gutierrez, 33, has had amblyopia in his right eye since childhood. The visual acuity in his right eye is 20/200, and in his left eye, 20/20. Following an examination in 2015, his optometrist stated, “However, he does have normal vision in his left eye and in my opinion is able to perform driving tasks to operate a commercial vehicle.” Mr. Gutierrez reported that he has driven straight trucks for 5 years, accumulating 13,000 miles. He holds an operator's license from Indiana. His driving record for the last 3 years shows no crashes and no convictions for moving violations in a CMV.

Mr. Edward R. Hunt

Mr. Hunt, 46, has had a central scotoma in his left eye since childhood. The visual acuity in his right eye is 20/20, and in his left eye, 20/100. Following an examination in 2015, his ophthalmologist stated, “I certify that in my medical opinion he has more than sufficient vision to perform the driving tasks required to operate a commercial vehicle.” Mr. Hunt reported that he has driven straight trucks for 10 years, accumulating 55,000 miles and tractor-trailer combinations for 3 years, accumulating 7,500 miles. He holds a Class A CDL from North Carolina. His driving record for the last 3 years shows no crashes and no convictions for moving violations in a CMV.

William J. Kanaris

Mr. Kanaris, 53, has had strabismic amblyopia in his right eye since birth. The visual acuity in his right eye is light perception, and in his left eye, 20/15. Following an examination in 2015, his optometrist stated, “In my medical opinion, I believe Mr. Kanaris has sufficient vision to perform the driving tasks required to operate a commercial vehicle.” Mr. Kanaris reported that he has driven straight trucks for 30 years, accumulating 360,000. He holds a Class B CDL from New York. His driving record for the last 3 years shows no crashes and no convictions for moving violations in a CMV.

Harvey Klein

Mr. Klein, 76, has had amblyopia in his left eye since childhood. The visual acuity in his right eye is 20/25, and in his left eye, 20/50. Following an examination in 2015, his optometrist stated, “It is my medical opinion, Mr. Klein, has sufficient vision to perform driving tasks required to operate a commercial vehicle.” Mr. Klein reported that he has driven buses for 22 years, accumulating 440,000 miles. He holds a Class C CDL from New Jersey. His driving record for the last 3 years shows no crashes and no convictions for moving violations in a CMV.

Ronnie L. McHugh

Mr. McHugh, 57, has had amblyopia in his left eye since 1989. The visual acuity in his right eye is 20/20, and in his left eye, 20/100. Following an examination in 2015, his optometrist stated, “In my medical opinion, Ronnie L. McHugh has sufficient vision to perform the driving tasks required to operate a commercial vehicle.” Mr. McHugh reported that he has driven straight trucks for 31 years, accumulating 465,000 miles and tractor-trailer combinations for 26 years, accumulating 260,000 miles. He holds a Class A CDL from Kansas. His driving record for the last 3 years shows no crashes and no convictions for moving violations in a CMV.

Walter J. Musty

Mr. Musty, 70, has had a corneal scar in his left eye since 2011. The visual acuity in his right eye is 20/20, and in his left eye, no light perception. Following an examination in 2015, his ophthalmologist stated, “I Certify [sic] that, in my medical opinion, the applicant's visual deficiency is stable; the applicant has sufficient vision to perform the driving tasks required to operate a commercial motor vehicle, and, the applicant's condition will not adversely affect his/her ability to operate a commercial motor vehicle safely.” Mr. Musty reported that he has driven straight trucks for 12 years, accumulating 39,000 miles. He holds a Class D operator's license from Minnesota. His driving record for the last 3 years shows no crashes and no convictions for moving violations in a CMV.

John O'Boyle

Mr. O'Boyle, 58, has had aphakia in his left eye since childhood. The visual acuity in his right eye is 20/20, and in his left eye, hand motion. Following an examination in 2015, his optometrist stated, “I certify that in my medical opinion the above named patient has sufficient vision to perform the driving tasks required to operate a commercial vehicle.” Mr. O'Boyle reported that he has driven straight trucks for 40 years, accumulating 1.66 million miles. He holds a Class B CDL from Pennsylvania. His driving record for the last 3 years shows no crashes and no convictions for moving violations in a CMV.

Michael L. Robinson

Mr. Robinson, 45, has macular scarring in his right eye due to a traumatic incident in 2009. The visual acuity in his right eye is 20/70, and in his left eye, 20/20. Following an examination in 2015, his optometrist stated, “It is my opinion that Mr. Robinson has sufficient vision to perform the driving tasks required to operate a commercial vehicle.” Mr. Robinson reported that he has driven straight trucks for 11 years, accumulating 330,000 miles. He holds a Class B CDL from Missouri. His driving record for the last 3 years shows no crashes and no convictions for moving violations in a CMV.

Donald P. Ruckinger

Mr. Ruckinger, 75, has had amblyopia in his right eye since birth. The visual acuity in his right eye is 20/50, and in his left eye, 20/20. Following an examination in 2015, his optometrist stated, “I believe that MR. [sic] Ruckinger in my medical opinion has adapted to his stable visual condition and has sufficient vision to perform the driving tasks required to operate a commercial vehicle . . .” Mr. Ruckinger reported that he has driven tractor-trailer combinations for 40 years, accumulating 2 million miles. He holds a Class A CDL from Pennsylvania. His driving record for the last 3 years shows no crashes and no convictions for moving violations in a CMV.

Mark A. Sanders

Mr. Sanders, 59, has a prosthetic left eye due to a traumatic incident in 1994. The visual acuity in his right eye is 20/20, and in his left eye, no light perception. Following an examination in 2015, his optometrist stated, “My assessment is that his vision does allow him to perform normally and safely for all tasks, including those for use as a commercially certificated driver.” Mr. Sanders reported that he has driven straight trucks for 43 years, accumulating 1.1 million miles, tractor-trailer combinations for 34 years, accumulating 3.4 million miles and buses for 2 years, accumulating 40,000 miles. He holds a Class A CDL from Oklahoma. His driving record for the last 3 years shows no crashes and no convictions for moving violations in a CMV.

Michael J. Scarano

Mr. Scarano, 59, has had a prosthetic right eye since 1965 due to a traumatic incident. The visual acuity in his right eye is no light perception, and in his left eye, 20/20. Following an examination in 2015, his ophthalmologist stated, “Mr. Michael J. Scarano's Snellen visual acuity, peripheral vision and visual field test have remained unchanged from 2012. Accordingly, his visual ability to operate a commercial vehicle has remained unchanged as well.” Mr. Scarano reported that he has driven straight trucks for 41 years, accumulating 2.4 million miles and tractor-trailer combinations for 10 years, accumulating 150,000. He holds a Class B CDL from New Jersey. His driving record for the last 3 years shows one crash in a CMV, for which he contributed by making an improper turn, and no convictions for moving violations in a CMV.

Edward P. Schrader II

Mr. Schrader, II, 29, has had amblyopia in his right eye since birth. The visual acuity in his right eye is 20/400, and in his left eye, 20/20. Following an examination in 2015, his optometrist stated, “I certify that he has sufficient vision to perform the driving tasks required to operate a commercial vehicle.” Mr. Schrader reported that he has driven straight trucks for 2 years, accumulating 50,000 miles and tractor-trailer combinations for 6 years, accumulating 150,000 miles. He holds a Class A CDL from Washington. His driving record for the last 3 years shows no crashes and no convictions for moving violations in a CMV.

Charles H. Strople

Mr. Strople, 73, had a retinal detachment in his left eye in 2011. The visual acuity in his right eye is 20/20, and in his left eye, 20/200. Following an examination in 2015, his ophthalmologist stated, “In my medical opinion, Mr. Strople has sufficient vision to operate a commercial vehicle.” Mr. Strople reported that he has driven straight trucks for 49 years, accumulating 980,000 miles, and tractor-trailer combinations for 49 years, accumulating 2.45 million miles. He holds a Class A CDL from Massachusetts. His driving record for the last 3 years shows no crashes and no convictions for moving violations in a CMV.

Eddie Walker

Mr. Walker, 44, has had amblyopia in his left eye since childhood. The visual acuity in his right eye is 20/20, and in his left eye, 20/200. Following an examination in 2015, his optometrist stated, “In my medical opinion Chad's depth perception based on adapting since birth to the amblyopic Left Eye [sic] is sufficient and given all vision testing I would give the recommendation that Chad has sufficient vision to perform the driving tasks required to operate a commercial vehicle.” Mr. Walker reported that he has driven tractor-trailer combinations for 16 years, accumulating 672,000 miles. He holds a Class A CDL from North Carolina. His driving record for the last 3 years shows no crashes and no convictions for moving violations in a CMV.

Trent Wipf

Mr. Wifp, 30, has been blind in his right eye due to a traumatic incident in childhood. The visual acuity in his right eye is no light perception, and in his left eye, 20/20. Following an examination in 2015, his optometrist stated, “I, Erica Seelye, O.D., hereby certify that Trent Wipf has sufficient vision to perform the driving tasks required to operate a commercial vehicle.” Mr. Wipf reported that he has driven straight trucks for 15 years, accumulating 15,000 miles and tractor-trailer combinations for 15 years, accumulating 300,000 miles. He holds a Class A CDL from South Carolina. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0351 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0351 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: March 21, 2016.
Larry W. Minor,
Associate Administrator for Policy.

[FR Doc. 2016-06955 Filed 3-25-16; 8:45 am]

BILLING CODE 4910-EX-P